DEPARTMENT OF COMMERCE

International Trade Administration

[A-570-964]

Seamless Refined Copper Pipe and Tube From the People's Republic of China: Final Results of Antidumping Duty Administrative Review; 2015-2016

AGENCY: Enforcement and Compliance, International Trade Administration, Department of Commerce.

SUMMARY: On August 8, 2017, the Department of Commerce (the Department) published the preliminary results of the administrative review of the antidumping duty order on seamless refined copper pipe and tube from the People's Republic of China (PRC) for the period of review (POR), November 1, 2015, through October 31, 2016. For the final results of this review, the Department continues to determine that the five remaining companies under review failed to establish their eligibility for a separate rate for the POR, and thus, are part of the PRC-wide entity. The final dumping margin of sales at the PRC-Wide Entity rate is listed below in the “Final Results” section of this notice.

DATES: Applicable November 20, 2017.

FOR FURTHER INFORMATION CONTACT: Julia Hancock or Courtney Canales, AD/CVD Operations, Office V, Enforcement and Compliance, International Trade Administration, U.S. Department of Commerce, 1401 Constitution Avenue NW., Washington, DC 20230; telephone: (202) 482-1394 or (202) 482-4997, respectively.

SUPPLEMENTARY INFORMATION:

Background

On August 8, 2017, the Department published the Preliminary Results of the antidumping duty order on seamless refined copper pipe and tube from the PRC.¹ We invited parties to submit comments on the Preliminary Results, but we received no comments. The Department conducted this administrative review in accordance with section 751 of the Tariff Act of 1930, as amended (the Act).

¹ See Seamless Refined Copper Pipe and Tube from the People's Republic of China: Preliminary Results and Partial Rescission of the Antidumping Duty Administrative Review; 2015-2016, 82 FR 37058 (August 8, 2017) and accompanying Preliminary Decision Memorandum (Preliminary Decision Memorandum) (collectively, Preliminary Results).

Scope of the Order

The merchandise subject to the order is seamless refined copper pipe and tube. The product is currently classified under Harmonized Tariff Schedule of the United States (HTSUS) item numbers 7411.10.1030 and 7411.10.1090. Products subject to this order may also enter under HTSUS item numbers 7407.10.1500, 7419.99.5050, 8415.90.8065, and 8415.90.8085. Although the HTSUS numbers are provided for convenience and customs purposes, the written description of the scope of this order remains dispositive.²

² For a full description of the scope of the Order, see Preliminary Decision Memorandum at 3-4.

Analysis of Comments Received

As noted above, we received no comments on the Preliminary Results.

Changes Since the Preliminary Results

As no parties submitted comments on the Preliminary Results, the Department has not modified its analysis from that presented in the Preliminary Results, and no decision memorandum accompanies this Federal Register notice. Further, the Department has made no adjustments to the determination that China Hailiang Metal Trading (China Hailiang), Shanghai Hailiang Metal Trading Limited (Shanghai Hailiang Trading), Hong Kong Hailiang, Shanghai Hailiang, and Zhejiang Hailiang did not demonstrate that they are entitled to a separate rate. Accordingly, we continue to determine it appropriate to consider all five companies to be part of the PRC-Wide entity.³ The rate previously established for the PRC-wide entity is 60.85 percent.⁴

³ See Preliminary Decision Memorandum, at 4-5. Pursuant to the Department's change in practice, the Department no longer considers the non-market economy (NME) entity as an exporter conditionally subject to administrative reviews. See Antidumping Proceedings: Announcement of Change in Department Practice for Respondent Selection in Antidumping Duty Proceedings and Conditional Review of the Nonmarket Economy Entity in NME Antidumping Duty Proceedings, 78 FR 65963, 65970 (November 4, 2013). Under this practice, the NME entity will not be under review unless a party specifically requests, or the Department self-initiates, a review of the entity. Because no party requested a review of the entity, the entity is not under review and the entity's rate is not subject to change.

⁴ The rate for the PRC-Wide Entity was first assigned in the less than fair value investigation of seamless refined copper pipe and tube from the PRC, see Seamless Refined Copper Pipe and Tube from the People's Republic of China: Final Determination of Sales at Less Than Fair Value, 75 FR 60725, 60729 (October 1, 2010). This rate has been used in each subsequent administrative review in which there was a party being considered as part of the PRC-Wide Entity.

Final Results

The final weighted-average dumping margin is as follows:

Exporter/producer | Weighted- average dumping margin (%)
PRC-Wide Entity ⁵ | 60.85

Assessment Rates

We have not calculated any assessment (or cash deposit) rates in this administrative review, because the five companies under review are a part of the PRC-wide entity. The Department intends to issue assessment instructions to CBP 15 days after the publication date of the final results of this administrative review.

⁵ The PRC-wide entity includes China Hailiang, Shanghai Hailiang Trading, Hong Kong Hailiang, Shanghai Hailiang, and Zhejiang Hailiang.

Cash Deposit Requirements

The following cash deposit requirements will be effective upon publication of the final results of this administrative review for all shipments of the subject merchandise from the PRC entered, or withdrawn from warehouse, for consumption on or after the publication date, as provided for by section 751(a)(2)(C) of the Act: (1) For previously investigated or reviewed PRC and non-PRC exporters not listed above that received a separate rate in a prior segment of this proceeding, the cash deposit rate will continue to be the existing exporter-specific rate; (2) for all PRC exporters of subject merchandise that have not been found to be entitled to a separate rate, the cash deposit rate will be that for the PRC-Wide rate (i.e., 60.85 percent); and (3) for all non-PRC exporters of subject merchandise that have not received their own rate, the cash deposit rate will be the rate applicable to the PRC exporter that supplied that non-PRC exporter. These deposit requirements, when imposed, shall remain in effect until further notice.

Disclosure

Normally, the Department discloses to interested parties the calculations performed in connection with the final results within five days of its public announcement, or if there is no public announcement, within five days of the date of publication of this notice in accordance with 19 CFR 351.224(b). However, because the Department determined that China Hailiang, Shanghai Hailiang Trading, Hong Kong Hailiang, Shanghai Hailiang, and Zhejiang Hailiang are part of the PRC-wide entity, and have been assigned the PRC-wide rate, there are no calculations to disclose.

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Administrative Protective Order

This notice also serves as a reminder to parties subject to administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and the terms of an APO is a violation subject to sanction.

Notification to Interested Parties

We are issuing and publishing these results in accordance with sections 751(a)(1) and 777(i)(1) of the Act and 19 CFR 351.213(h) and 351.221(b)(5).

Dated: November 13, 2017.
Gary Taverman,
Deputy Assistant Secretary for Antidumping and Countervailing Duty Operations, performing the non-exclusive functions and duties for the Assistant Secretary for Enforcement and Compliance.

[FR Doc. 2017-25085 Filed 11-17-17; 8:45 am]

BILLING CODE 3510-DS-P